DEPARTMENT OF HEALTH AND HUMAN SERVICES

Centers for Disease Control and Prevention

[60-Day-14-14AMY]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Registration of Closed-Circuit Escape Respirator (CCER) units upon purchase—42 CFR part 84—Regulation—New—National Institute for Occupational Safety and Health (NIOSH), of the Centers for Disease Control and Prevention (CDC).

Background and Brief Description

This project partially satisfies the requirement created by 42 CFR 84.311, Registration of CCER Units upon purchase. Applicants for approval of closed-circuit escape respirator (CCER) units must request respirator purchasers register their respirators with the National Institute for Occupational Safety and Health (NIOSH). The purpose of the information collection, is given in § 84.311c: “The National Institute for Occupational Safety and Health (NIOSH) requests, but does not require, that purchasers of this respirator register each unit with NIOSH. Registration will enable NIOSH, which approved this model of respirator, to attempt to notify you if a problem is discovered that might affect the safety or performance of this respirator. Registration will also assist NIOSH in locating deployed units to periodically evaluate whether this respirator model is remaining effective under field conditions of storage and use.”

CCER units are respirators designed for escape from certain hazardous atmospheres, notably atmospheres that may be encountered during mining incidents. Subpart O, Closed-Circuit Escape Respirators, (§§ 84.300—84.311) was added to 42 CFR Part 84, Approval of Respiratory Protective Devices, describing requirements for a new class of NIOSH-approved respirators in response to issues with deployed Self-Contained Self-Rescuers (SCSR) respirators. Purchaser data collection was added to enable direct communication about potentially hazardous issues that may arise with approved CCER units, and to facilitate collection of CCER units from the field for evaluation.

In support of these goals, the collection will request the name and postal address of the company that purchased the respirators, a contact email address and position title, the respirator manufacturer, model, serial number or numbers, and date of manufacture, and the company industry and worksite regulation body (i.e. Mining Safety and Health Administration (MSHA), Occupational Safety and Health Administration (OSHA), or Other). Data collection will be through a structured email created using a NIOSH-hosted web form. Data collection is expected to take approximately five minutes per submission.

While the Federal Government is expected to purchase approximately 40,000 CCER units annually, these purchases will not be included in the burden estimate as MSHA will require the collection of this data for mine safety checks. Purchasers covered by MSHA regulations will be advised that MSHA reporting requirements will include all expected benefits of this CCER registration, and therefore registration is not recommended. The private sector is expected to purchase approximately 4,000 CCER units annually and a conservative estimate purchase lot size of ten (400 units).

We estimate an 80% response rate, for an estimated 320 responses. The estimated overall burden is 27 hours. There are no costs to the respondents other than their time.

Estimated Annualized Burden Hours
Type of respondent | Form name | Number of respondents | Responses per respondent | Average burden per response (in hours) | Total burden hours
Purchaser of CCER units | CCER Registration Form | 320 | 1 | 5/60 | 27
Total |  |  |  |  | 27

Leroy Richardson,
Chief, Information Collection Review Office, Office of Scientific Integrity, Office of the Associate Director for Science, Office of the Director, Centers for Disease Control and Prevention.

[FR Doc. 2014-16120 Filed 7-9-14; 8:45 am]

BILLING CODE 4163-18-P